DEPARTMENT OF EDUCATION

Notice of Submission for OMB Review; Office of Elementary and Secondary Education; State Educational Agency Local Educational Agency, and School Data Collection and Reporting Under the Elementary and Secondary Education Act of 1965 (ESEA), Title I, Part A

SUMMARY: Title I, Part A of the Elementary and Secondary Education Act of 1965 (ESEA), as amended by the No Child Left Behind Act, and its regulations contain several existing provisions that require State educational agencies (SEAs), local educational agencies (LEAs), and schools to collect and disseminate information. The Paperwork Reduction Act covers these activities, which are currently approved by the Office of Management and Budget under control number 1810-0581 (expires April 30, 2012).

The U.S. Department of Education (ED) has invited each SEA to request flexibility on behalf of itself, its LEAs, and schools, in order to better focus on improving student academic achievement and increasing the quality of instruction (ESEA flexibility). As of April 17, 2012, 11 SEAs have had their ESEA flexibility requests approved, 27 SEAs' requests are pending, and 5 SEAs have indicated that they intend to request ESEA flexibility in September 2012. Of particular relevance to this collection is ED's expectation that, overall, ESEA flexibility will result in less burden on SEAs, LEAs, and schools compared with current law absent this flexibility. The burden estimate for this collection is therefore substantially lower than that of the currently approved collection.

DATES: Interested persons are invited to submit comments on or before May 23, 2012.

ADDRESSES: Written comments regarding burden and/or the collection activity requirements should be electronically mailed to ICDocketMgr@ed.gov or mailed to U.S. Department of Education, 400 Maryland Avenue SW., LBJ, Washington, DC 20202-4537. Copies of the proposed information collection request may be accessed from http://edicsweb.ed.gov, by selecting the “Browse Pending Collections” link and by clicking on link number 04800. When you access the information collection, click on “Download Attachments” to view. Written requests for information should be addressed to U.S. Department of Education, 400 Maryland Avenue SW., LBJ, Washington, DC 20202-4537. Requests may also be electronically mailed to ICDocketMgr@ed.gov or faxed to 202-401-0920. Please specify the complete title of the information collection and OMB Control Number when making your request.

Individuals who use a telecommunications device for the deaf (TDD) may call the Federal Information Relay Service (FIRS) at 1-800-877-8339.

SUPPLEMENTARY INFORMATION: Section 3506 of the Paperwork Reduction Act of 1995 (44 U.S.C. Chapter 35) requires that Federal agencies provide interested parties an early opportunity to comment on information collection requests. The Acting Director, Information Collection Clearance Division, Privacy, Information and Records Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: State Educational Agency Local Educational Agency, and School Data Collection and Reporting under the Elementary and Secondary Education Act of 1965 (ESEA), Title I, Part A.

OMB Control Number: 1810-0581.

Type of Review: Extension.

Total Estimated Number of Annual Responses: 50,719.

Total Estimated Number of Annual Burden Hours: 4,710,525.

Abstract: Title I, Part A of the Elementary and Secondary Education Act of 1965 (ESEA), as amended by the No Child Left Behind Act, and its regulations contain several existing provisions that require State educational agencies (SEAs), local educational agencies (LEAs), and schools to collect and disseminate information. The Paperwork Reduction Act covers these activities, which are currently approved by the Office of Management and Budget under control number 1810-0581 (expires April 30, 2012).

The U.S. Department of Education (ED) has invited each SEA to request flexibility on behalf of itself, its LEAs, and schools, in order to better focus on improving student academic achievement and increasing the quality of instruction (ESEA flexibility). As of April 17, 2012, 11 SEAs have had their ESEA flexibility requests approved, 27 SEAs' requests are pending, and 5 SEAs have indicated that they intend to request ESEA flexibility in September 2012. Of particular relevance to this collection is ED's expectation that, overall, ESEA flexibility will result in less burden on SEAs, LEAs, and schools compared with current law absent this flexibility. The burden estimate for this collection is therefore substantially lower than that of the currently approved collection.

Dated: April 17, 2012.
Tomakie Washington,
Acting Director, Information Collection Clearance Division, Privacy, Information and Records Management Services, Office of Management.

[FR Doc. 2012-9748 Filed 4-20-12; 8:45 am]

BILLING CODE 4000-01-P